DEPARTMENT OF COMMERCE

Foreign-Trade Zones Board

[B-15-2014]

Foreign-Trade Zone 126—Reno, Nevada; Authorization of Production Activity Schlosser Forge Company North d/b/a Schlosser Forge Company (Aerospace and Industrial Turbine Engine Parts, Forgings) Verdi, NV

On February 4, 2014, the Economic Development Authority of Western Nevada, grantee of FTZ 126, submitted a notification of proposed production activity to the Foreign-Trade Zones (FTZ) Board on behalf of Schlosser Forge Company North d/b/a Schlosser Forge Company, in Verdi, Nevada.

The notification was processed in accordance with the regulations of the FTZ Board (15 CFR part 400), including notice in the Federal Register inviting public comment (79 FR 11755, March 3, 2014). The FTZ Board has determined that no further review of the activity is warranted at this time. The production activity described in the notification is authorized, subject to the FTZ Act and the FTZ Board's regulations, including Section 400.14, and further subject to a restriction requiring that Schlosser Forge Company North d/b/a Schlosser Forge Company, admit all foreign status titanium products to FTZ 126 in privileged foreign status (19 CFR 146.41).

Dated: June 4, 2014.
Andrew McGilvray,
Executive Secretary.

[FR Doc. 2014-13505 Filed 6-9-14; 8:45 am]

BILLING CODE 3510-DS-P